Proclamation 9087 of February 28, 2014

Read Across America Day, 2014

By the President of the United States of America

A Proclamation

Literacy is the foundation of every child's education. It opens doorways to opportunity, transports us across time and space, and binds family and friends closer together. When parents, educators, librarians, and mentors read with children, they give a gift that will nourish souls for a lifetime. Today, Americans young and old will take time to get lost in a story and do their part to cultivate the next generation of talent and intellect.

This day is also a time to honor the legacy of Theodor Seuss Geisel, known to us as Dr. Seuss. Countless Americans can recall his books as their first step into the lands of letters and wordplay. With creatures, contraptions, and vibrant characters, they have led generations of happy travelers through voyages of the imagination. Yet his tales also challenge dictators and discrimination. They call us to open our minds, to take responsibility for ourselves and our planet. And they remind us that the value of our possessions pales in comparison to that of the ties we share with family, friends, and community.

From children's stories to classic works of literature, the written word allows us to see the world from new perspectives. It helps us understand what it means to be human and what it means to be American. During Read Across America Day, let us celebrate, rediscover, and engage our children in this wonderful pastime.

NOW, THEREFORE, I, BARACK OBAMA, President of the United States of America, by virtue of the authority vested in me by the Constitution and the laws of the United States, do hereby proclaim March 3, 2014, as Read Across America Day. I call upon children, families, educators, librarians, public officials, and all the people of the United States to observe this day with appropriate programs, ceremonies, and activities.

IN WITNESS WHEREOF, I have hereunto set my hand this twenty-eighth day of February, in the year of our Lord two thousand fourteen, and of the Independence of the United States of America the two hundred and thirty-eighth.

[FR Doc. 2014-05080

Filed 3-6-14; 8:45 am]

Billing code 3295-F4